NUCLEAR REGULATORY COMMISSION

10 CFR Chapter I

[NRC-2021-0113]

RIN 3150-AK65

Miscellaneous Corrections

AGENCY: Nuclear Regulatory Commission.

ACTION: Final rule.

SUMMARY: The U.S. Nuclear Regulatory Commission (NRC) is amending its regulations to make miscellaneous corrections. These changes include correcting mailing addresses, typographical errors, grammatical errors, references, spelling, agency names, and office titles; removing outdated reporting requirements; clarifying language; adding metric units; and inserting missing language. This document is necessary to inform the public of these non-substantive amendments to the NRC's regulations.

DATES: This final rule is effective on September 8, 2021.

ADDRESSES: Please refer to Docket ID NRC-2021-0113 when contacting the NRC about the availability of information for this action. You may obtain publicly-available information related to this action by any of the following methods:

• Federal Rulemaking Website: Go to https://www.regulations.gov and search for Docket ID NRC-2021-0113. Address questions about NRC dockets to Dawn Forder; telephone: 301-415-3407; email: Dawn.Forder@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to pdr.resource@nrc.gov.

• Attention: The PDR, where you may examine and order copies of public documents, is currently closed. You may submit your request to the PDR via email at pdr.resource@nrc.gov or call 1-800-397-4209 between 8:00 a.m. and 4:00 p.m. (EST), Monday through Friday, except Federal holidays.

FOR FURTHER INFORMATION CONTACT: Dawn Forder, Office of Nuclear Material Safety and Safeguards, U.S. Nuclear Regulatory Commission, Washington, DC 20555-0001; telephone: 301-415-3407; email: Dawn.Forder@nrc.gov.

SUPPLEMENTARY INFORMATION:

I. Introduction

The NRC is amending its regulations in parts 2, 11, 20, 25, 32, 35, 37, 50, 52, 55, 70, 72, 73, 95, and 110 of title 10 of the Code of Federal Regulations (10 CFR). The NRC is making these amendments to correct mailing addresses, typographical errors, grammatical errors, references, spelling, agency names, and office titles; remove outdated reporting requirements; clarify language; add metric units; and insert missing language.

II. Summary of Changes

10 CFR Part 2

Correct Spelling. This final rule amends §§ 2.911(a), 2.1023(b) introductory text, 2.1026(b)(1), and 2.1322(a) introductory text and appendix D to 10 CFR part 2 to correct the spelling of “preceeding” to “proceeding,” “respository” to “repository,” “unforseen” to “unforeseen,” “he” to “the, and “identifing” to “identifying”.

10 CFR Parts 11, 25, and 95 and Appendix A to 10 CFR Part 25

Correct Office Title. This final rule amends §§ 11.7, 11.15(e), 25.5, 25.17, and 95.5 and appendix A to 10 CFR part 25 to correct the office title from “Office of Personnel Management” in all its forms to “Defense Counterintelligence and Security Agency.”

10 CFR Part 20

Remove Outdated Reporting Requirement. This final rule amends § 20.2207(h) to remove an outdated reporting requirement.

10 CFR Part 32

Insert Missing Language. This final rule amends § 32.15(d) to insert missing introductory language.

10 CFR Part 35

Correct Spelling. This final rule amends § 35.50(c)(3) to correct a phrase from “master material license” to “master material licensee.”

Correct Agency Name. This final rule amends § 35.55(a)(1) to correct the title “American Council on Pharmaceutical Education (ACPE)” to “Accreditation Council for Pharmacy Education (ACPE) (previously named the American Council on Pharmaceutical Education).”

Correct Phrase. This final rule amends § 35.57(b)(2) to correct the phrase “or a permit issued by a Commission master material license of broad scope on or before October 25, 2005,” to “or a permit issued in accordance with a Commission master material broad scope license on or before October 25, 2005,”.

10 CFR Part 37

Correct Mailing Address. This final rule amends § 37.27(c)(1) to revise the mail stop for the submission of the fingerprinting cards for background checks.

10 CFR Part 50

Correct Typographical Error. This final rule amends § 50.34(b)(6)(i) to correct “or” to “of.”

Remove Outdated Reporting Requirements. This final rule revises § 50.63(c)(1) introductory text and removes §§ 50.63(c)(4) and 50.71(e)(3)(ii) to remove outdated reporting requirements. It also amends sections IV.D.4 and VI.4 in appendix E to 10 CFR part 50 to remove outdated reporting requirements.

10 CFR Part 52

Clarify Language. This final rule amends § 52.98(b) and (d) introductory text to clarify duplicative language. It also amends section V.B.1 in appendix E to 10 CFR part 52 to remove the title of the section containing the exempted requirement and replace it with a short description. It also amends section III.D in appendix F to 10 CFR part 52 by removing the words “the NUREG,” and revises section V.A and removes and reserves section V.B to remove an exempted requirement.

10 CFR Part 55

Correct Typographical Error. This final rule amends § 55.31(b) to correct the spelling of “futher” to “further.”

10 CFR Part 70

Correct Typographical Error. This final rule amends § 70.22(g)(3) to correct the spelling of “discription” to “description.”

Correct References. This final rule amends § 70.32(a)(9)(i)(B) and (C) to update references to the United States Code.

10 CFR Part 72

Correct Spelling. This final rule amends § 72.218(a), to correct the spelling of “thev” to “the.”

10 CFR Part 73

Add Metric Units and Correct Phrase. This final rule amends §§ 73.1(b)(5), 73.35, 73.37(a)(1), 73.50 introductory text, 73.60 introductory text, and 73.67(b)(1)(i) to make non-substantive changes to correct the terminology and units to ensure consistency with the performance objectives of the regulations, apply metric standards, and conform with existing NRC regulations (i.e., § 73.6(b)).

Correct Typographical Error. This final rule amends § 73.6(b) to correct the capitalization of “rad” and “gray.”

Revise Mailing Address. This final rule amends § 73.57(d) to revise the mail stop for the submission of the fingerprint cards for background checks.

10 CFR Part 110

Correct Grammatical and Typographical Errors. This final rule amends §§ 110.2, 110.8, and 110.50(c)(3) introductory text to correct grammatical and typographical errors.

Correct Agency Name. This final rule amends § 110.20 to correct the name of a Federal agency.

III. Rulemaking Procedure

Under section 553(b) of the Administrative Procedure Act (5 U.S.C. 553(b)), an agency may waive publication in the Federal Register of a notice of proposed rulemaking and opportunity for comment requirements if it finds, for good cause, that it is impracticable, unnecessary, or contrary to the public interest. As authorized by 5 U.S.C. 553(b)(3)(B), the NRC finds good cause to waive notice and opportunity for comment on these amendments, because notice and opportunity for comment is unnecessary. The amendments will have no substantive impact and are of a minor and administrative nature dealing with corrections to certain CFR sections or are related only to management, organization, procedure, and practice. Specifically, the revisions correct mailing addresses, typographical errors, grammatical errors, references, spelling, agency names, and office titles; remove outdated reporting requirements; clarify language; add metric units; and insert missing language. The Commission is exercising its authority under 5 U.S.C.553(b) to publish these amendments as a final rule. The amendments are effective September 8, 2021. These amendments do not require action by any person or entity regulated by the NRC and do not change the substantive responsibilities of any person or entity regulated by the NRC.

IV. Environmental Impact: Categorical Exclusion

The NRC has determined that this final rule is the type of action described in § 51.22(c)(2), which categorically excludes from environmental review rules that are corrective or of a minor, nonpolicy nature and do not substantially modify existing regulations. Therefore, neither an environmental impact statement nor an environmental assessment has been prepared for this rule.

V. Paperwork Reduction Act

This final rule does not contain a collection of information as defined in the Paperwork Reduction Act of 1995 (44 U.S.C. 3501 et seq.) and, therefore, is not subject to the requirements of the Paperwork Reduction Act of 1995.

VI. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31885).

VII. Backfitting and Issue Finality

The NRC has determined that the corrections in this final rule would not constitute backfitting as defined in § 50.109, “Backfitting,” and as described in NRC Management Directive (MD) 8.4, “Management of Backfitting, Forward Fitting, Issue Finality, and Information Requests.” It also would not constitute forward fitting as that term is defined and described in MD 8.4 or affect the issue finality of any approval issued under 10 CFR part 52. The amendments are non-substantive in nature, including correcting mailing addresses, typographical errors, grammatical errors, references, spelling, agency names, and office titles; removing outdated reporting requirements; clarifying language; adding metric units; and inserting missing language. They impose no new requirements and make no substantive changes to the regulations. The corrections do not involve any provisions that would impose backfits as defined in 10 CFR chapter I, or that would be inconsistent with the issue finality provisions in 10 CFR part 52. For these reasons, the issuance of this final rule would not constitute backfitting or be inconsistent with any of the issue finality provisions in 10 CFR part 52. Therefore, the NRC has not prepared any additional documentation for this correction rulemaking addressing backfitting or issue finality.

VIII. Congressional Review Act

This final rule is not a rule as defined in the Congressional Review Act (5 U.S.C. 801-808).

IX. Agreement State Compatibility

Under the “Agreement State Program Policy Statement” approved by the Commission on October 2, 2017, and published in the Federal Register on October 18, 2017 (82 FR 48535), NRC program elements (including regulations) are placed into compatibility categories A, B, C, D, NRC, or adequacy category Health and Safety (H&S). Compatibility Category A program elements are those program elements that are basic radiation protection standards and scientific terms and definitions that are necessary to understand radiation protection concepts. An Agreement State should adopt Category A program elements in an essentially identical manner in order to provide uniformity in the regulation of agreement material on a nationwide basis. Compatibility Category B program elements are those program elements that apply to activities that have direct and significant effects in multiple jurisdictions. An Agreement State should adopt Category B program elements in an essentially identical manner. Compatibility Category C program elements are those program elements that do not meet the criteria of Category A or B, but contain the essential objectives that an Agreement State should adopt to avoid conflict, duplication, gaps, or other conditions that would jeopardize an orderly pattern in the regulation of agreement material on a national basis. An Agreement State should adopt the essential objectives of the Category C program elements. Compatibility Category D program elements are those program elements that do not meet any of the criteria of Category A, B, or C and, therefore, do not need to be adopted by Agreement States for purposes of compatibility. Compatibility Category NRC program elements are those program elements that address areas of regulation that cannot be relinquished to the Agreement States under the Atomic Energy Act of 1954, as amended, or provisions of 10 CFR. These program elements should not be adopted by the Agreement States. Adequacy category H&S program elements are program elements that are required because of a particular health and safety role in the regulation of agreement material within the State and should be adopted in a manner that embodies the essential objectives of the NRC program.

The portions of this final rule that amend 10 CFR parts 32, 37, and 70 are a matter of compatibility between the NRC and the Agreement States, thereby providing consistency among Agreement State and NRC requirements, and are listed in the following table. The changes to 10 CFR parts 2, 11, 25, 50, 52, 55, 72, 73, 95, and 110 and appendix A to 10 CFR part 25, appendix E to 10 CFR part 50, and appendices E and F to 10 CFR part 52 categories are not subject to Agreement State jurisdiction and consequently are not required for compatibility.

Compatibility Table
Section | Change | Subject | Compatibility: Existing | Compatibility: New
Part 20
§ 20.2207(h) | Amend | Reports of transactions involving nationally tracked sources | B | B
Part 32
§ 32.15(d) introductory text | Amend | Same: Quality assurance, prohibition of transfer and labeling | NRC | NRC
Part 35
§ 35.50(c)(3) | Amend | Training for Radiation Safety Officer and Associate Radiation Safety Officer | B | B
§ 35.57(b)(2) | Amend | Training for experienced Radiation Safety Officer, teletherapy or medical physicist, authorized medical physicist, authorized user, nuclear pharmacist, and authorized nuclear pharmacist | B | B
§ 35.55(a)(1) | Amend | Training for an authorized nuclear pharmacist | B | B
Part 37
§ 37.27(c)(1) | Amend | Requirements for criminal history records checks of individuals granted unescorted access to category 1 or category 2 quantities of radioactive material | B | B
Part 70
§ 70.22(g)(3) | Amend | Contents of application | NRC | NRC
§ 70.32(a)(9)(i)(B) | Amend | Conditions of licenses | H&S | H&S
§ 70.32(a)(9)(i)(C) | Amend | Conditions of licenses | H&S | H&S

List of Subjects

10 CFR Part 2

Administrative practice and procedure, Antitrust, Byproduct material, Classified information, Confidential business information; Freedom of information, Environmental protection, Hazardous waste, Nuclear energy, Nuclear materials, Nuclear power plants and reactors, Penalties, Reporting and recordkeeping requirements, Sex discrimination, Source material, Special nuclear material, Waste treatment and disposal.

10 CFR Part 11

Hazardous materials transportation, Investigations, Nuclear energy, Nuclear materials, Penalties, Reporting and recordkeeping requirements, Security measures, Special nuclear material.

10 CFR Part 20

Byproduct material, Criminal penalties, Hazardous waste, Licensed material, Nuclear energy, Nuclear materials, Nuclear power plants and reactors, Occupational safety and health, Packaging and containers, Penalties, Radiation protection, Reporting and recordkeeping requirements, Source material, Special nuclear material, Waste treatment and disposal.

10 CFR Part 25

Classified information, Criminal penalties, Investigations, Penalties, Reporting and recordkeeping requirements, Security measures.

10 CFR Part 32

Byproduct material, Criminal penalties, Labeling, Nuclear energy, Nuclear materials, Radiation protection, Reporting and recordkeeping requirements.

10 CFR Part 35

Biologics, Byproduct material, Criminal penalties, Drugs, Health facilities, Health professions, Labeling, Medical devices, Nuclear energy, Nuclear materials, Occupational safety and health, Penalties, Radiation protection, Reporting and recordkeeping requirements.

10 CFR Part 37

Byproduct material, Criminal penalties, Exports, Hazardous materials transportation, Imports, Licensed material, Nuclear materials, Penalties, Radioactive materials, Reporting and recordkeeping requirements, Security measures.

10 CFR Part 50

Administrative practice and procedure, Antitrust, Backfitting, Classified information, Criminal penalties, Education, Emergency planning, Fire prevention, Fire protection, Incorporation by reference, Intergovernmental relations, Nuclear power plants and reactors, Penalties, Radiation protection, Reactor siting criteria, Reporting and recordkeeping requirements, Whistleblowing.

10 CFR Part 52

Administrative practice and procedure, Antitrust, Combined license, Early site permit, Emergency planning, Fees, Incorporation by reference, Inspection, Issue finality, Limited work authorization, Nuclear power plants and reactors, Probabilistic risk assessment, Prototype, Reactor siting criteria, Redress of site, Penalties, Reporting and recordkeeping requirements, Standard design, Standard design certification.

10 CFR Part 55

Criminal penalties, Manpower training programs, Nuclear power plants and reactors, Penalties, Reporting and recordkeeping requirements.

10 CFR Part 70

Classified information, Criminal penalties, Emergency medical services, Hazardous materials transportation, Material control and accounting, Nuclear energy, Nuclear materials, Packaging and containers, Penalties, Radiation protection, Reporting and recordkeeping requirements, Scientific equipment, Security measures, Special nuclear material, Whistleblowing.

10 CFR Part 72

Administrative practice and procedure, Hazardous waste, Indians, Intergovernmental relations, Nuclear energy, Penalties, Radiation protection, Reporting and recordkeeping requirements, Security measures, Spent fuel, Whistleblowing.

10 CFR Part 73

Criminal penalties, Exports, Hazardous materials transportation, Incorporation by reference, Imports, Nuclear energy, Nuclear materials, Nuclear power plants and reactors, Penalties, Reporting and recordkeeping requirements, Security measures.

10 CFR Part 95

Nuclear power plants and reactors, Radiation protection, Reactor siting criteria, Reporting and recordkeeping requirements.

10 CFR Part 110

Administrative practice and procedure, Classified information, Criminal penalties, Exports, Incorporation by reference, Imports, Intergovernmental relations, Nuclear energy, Nuclear materials, Nuclear power plants and reactors, Penalties, Reporting and recordkeeping requirements, Scientific equipment.

For the reasons set out in the preamble and under the authority of the Atomic Energy Act of 1954, as amended; the Energy Reorganization Act of 1974, as amended; and 5 U.S.C. 552 and 553, the NRC is adopting the following amendments to 10 CFR Chapter I:

PART 2—AGENCY RULES OF PRACTICE AND PROCEDURE

1. The authority citation for part 2 continues to read as follows:

Authority: Atomic Energy Act of 1954, secs. 29, 53, 62, 63, 81, 102, 103, 104, 105, 161, 181, 182, 183, 184, 186, 189, 191, 234 (42 U.S.C. 2039, 2073, 2092, 2093, 2111, 2132, 2133, 2134, 2135, 2201, 2231, 2232, 2233, 2234, 2236, 2239, 2241, 2282); Energy Reorganization Act of 1974, secs. 201, 206 (42 U.S.C. 5841, 5846); Nuclear Waste Policy Act of 1982, secs. 114(f), 134, 135, 141 (42 U.S.C. 10134(f), 10154, 10155, 10161); Administrative Procedure Act (5 U.S.C. 552, 553, 554, 557, 558); National Environmental Policy Act of 1969 (42 U.S.C. 4332); 44 U.S.C. 3504 note.

Section 2.205(j) also issued under 28 U.S.C. 2461 note.

Section 2.205(j) also issued under Sec. 31001(s), Pub. L. 104-134, 110 Stat. 1321-373 (28 U.S.C. 2461 note).

§ 2.911 [Amended]

2. In § 2.911(a), remove the word “preceeding” and add in its place the word “proceeding”.

§ 2.1023 [Amended]

3. In § 2.1023(b) introductory text, remove the word “respository” and add in its place the word “repository”.

§ 2.1026 [Amended]

4. In § 2.1026(b)(1), remove the word “unforseen” and add in its place the word “unforeseen”.

PART 11—CRITERIA AND PROCEDURES FOR DETERMINING ELIGIBILITY FOR ACCESS TO OR CONTROL OVER SPECIAL NUCLEAR MATERIAL

5. The authority citation for part 11 continues to read as follows:

Authority: Atomic Energy Act of 1954, secs. 161, 223 (42 U.S.C. 2201, 2273); Energy Reorganization Act of 1974, sec. 201 (42 U.S.C. 5841); 44 U.S.C. 3504 note. Section 11.15(e) also issued under 31 U.S.C. 9701; 42 U.S.C. 2214.

§ 11.7 [Amended]

6. In § 11.7, in the definition for NRC-“U” special nuclear material access authorization, remove “Office of Personnel Management” and add in its place “Defense Counterintelligence and Security Agency”.

§ 11.15 [Amended]

7. In § 11.15:

a. In paragraph (e) introductory text, remove “Office of Personnel Management (OPM)” and add in its place “Defense Counterintelligence and Security Agency (DCSA)”;

b. In paragraph (e) introductory text and paragraphs (e)(1) through (3), wherever it appears, remove “OPM” and add in its place “DCSA”; and

c. In paragraphs (e)(2) and (3), remove “OPM's” and add in its place “DCSA's”.

PART 20—STANDARDS FOR PROTECTION AGAINST RADIATION

8. The authority citation for part 20 continues to read as follows:

Authority: Atomic Energy Act of 1954, secs. 11, 53, 63, 65, 81, 103, 104, 161, 170H, 182, 186, 223, 234, 274, 1701 (42 U.S.C. 2014, 2073, 2093, 2095, 2111, 2133, 2134, 2201, 2210h, 2232, 2236, 2273, 2282, 2021, 2297f); Energy Reorganization Act of 1974, secs. 201, 202 (42 U.S.C. 5841, 5842); Low-Level Radioactive Waste Policy Amendments Act of 1985, sec. 2 (42 U.S.C. 2021b); 44 U.S.C. 3504 note.

§ 20.2207 [Amended]

9. In § 20.2207, remove paragraph (h).

PART 25—ACCESS AUTHORIZATION

10. The authority citation for part 25 continues to read as follows:

Authority: Atomic Energy Act of 1954, secs. 145, 161, 223, 234 (42 U.S.C. 2165, 2201, 2273, 2282); Energy Reorganization Act of 1974, sec. 201 (42 U.S.C. 5841); 44 U.S.C. 3504 note; E.O. 10865, 25 FR 1583, as amended, 3 CFR, 1959-1963 Comp., p. 398; E.O. 12829, 58 FR 3479, 3 CFR, 1993 Comp., p. 570; E.O. 13526, 75 FR 707, 3 CFR, 2009 Comp., p. 298; E.O. 12968, 60 FR 40245, 3 CFR, 1995 Comp., p. 391. Section 25.17(f) and Appendix A also issued under 31 U.S.C. 9701; 42 U.S.C. 2214.

§ 25.5 [Amended]

11. In § 25.5, in the definitions for “L” access authorization and “Q” access authorization, remove “Office of Personnel Management” and add in its place “Defense Counterintelligence and Security Agency”.

§ 25.17 [Amended]

12. In § 25.17:

a. In paragraph (f) introductory text, remove “Office of Personnel Management (OPM)” and add in its place “Defense Counterintelligence and Security Agency (DCSA)”;

b. In paragraph (f) introductory text and paragraphs (f)(1) and (2), wherever it appears, remove “OPM” and add in its place “DCSA”; and

c. In paragraph (f)(2), remove “OPM's” and add in its place “DCSA's”.

13. In appendix A to 10 CFR part 25, revise the table headings to read as follows:

Appendix A to Part 25—Fees for NRC Access Authorization
The NRC application fee for an access authorization of type . . . | Is the sum of the current DCSA investigation billing rate charged for an investigation of type . . . | Plus the NRC's processing fee (rounded to the nearest dollar), which is equal to the DCSA investigation billing rate for the type of investigation referenced multiplied by . . .

PART 32—SPECIFIC DOMESTIC LICENSES TO MANUFACTURE OR TRANSFER CERTAIN ITEMS CONTAINING BYPRODUCT MATERIAL

14. The authority citation for part 32 continues to read as follows:

Authority: Atomic Energy Act of 1954, secs. 81, 161, 181, 182, 183, 223, 234, 274 (42 U.S.C. 2111, 2201, 2231, 2232, 2233, 2273, 2282, 2021); Energy Reorganization Act of 1974, sec. 201 (42 U.S.C. 5841); 44 U.S.C. 3504 note.

15. In § 32.15, add paragraph (d) introductory text to read as follows:

§ 32.15 Same: Quality assurance, prohibition of transfer, and labeling.

* * * * *

(d) Each person licensed under § 32.14 for products for which quality control procedures are required shall:

* * * * *

PART 35—MEDICAL USE OF BYPRODUCT MATERIAL

16. The authority citation for part 35 continues to read as follows:

Authority: Atomic Energy Act of 1954, secs. 81, 161, 181, 182, 183, 223, 234, 274 (42 U.S.C. 2111, 2201, 2231, 2232, 2233, 2273, 2282, 2021); Energy Reorganization Act of 1974, secs. 201, 206 (42 U.S.C. 5841, 5846); 44 U.S.C. 3504 note.

§ 35.50 [Amended]

17. In § 35.50(c)(3), remove the words “master material license” and add in their place the words “master material licensee”.

§ 35.55 [Amended]

18. In § 35.55(a)(1), remove the title “American Council on Pharmaceutical Education (ACPE)” and add in its place the title “Accreditation Council for Pharmacy Education (ACPE) (previously named the American Council on Pharmaceutical Education)”.

§ 35.57 [Amended]

19. In § 35.57(b)(2), remove the phrase “or a permit issued by a Commission master material license of broad scope on or before October 25, 2005,” and add in its place the phrase “or a permit issued in accordance with a Commission master material broad scope license on or before October 25, 2005,”.

PART 37—PHYSICAL PROTECTION OF CATEGORY 1 AND CATEGORY 2 QUANTITIES OF RADIOACTIVE MATERIAL

20. The authority citation for part 37 continues to read as follows:

Authority: Atomic Energy Act of 1954, secs. 11, 53, 81, 103, 104, 147, 148, 149, 161, 182, 183, 223, 234, 274 (42 U.S.C. 2014, 2073, 2111, 2133, 2134, 2167, 2168, 2169, 2201, 2232, 2233, 2273, 2282, 2021); Energy Reorganization Act of 1974, secs. 201, 202 (42 U.S.C. 5841, 5842); 44 U.S.C. 3504 note.

§ 37.27 [Amended]

21. In § 37.27(c)(1), remove “T-8B20” and add in its place “T-07D04M”.

PART 50—DOMESTIC LICENSING OF PRODUCTION AND UTILIZATION FACILITIES

22. The authority citation for part 50 continues to read as follows:

Authority: Atomic Energy Act of 1954, secs. 11, 101, 102, 103, 104, 105, 108, 122, 147, 149, 161, 181, 182, 183, 184, 185, 186, 187, 189, 223, 234 (42 U.S.C. 2014, 2131, 2132, 2133, 2134, 2135, 2138, 2152, 2167, 2169, 2201, 2231, 2232, 2233, 2234, 2235, 2236, 2237, 2239, 2273, 2282); Energy Reorganization Act of 1974, secs. 201, 202, 206, 211 (42 U.S.C. 5841, 5842, 5846, 5851); Nuclear Waste Policy Act of 1982, sec. 306 (42 U.S.C. 10226); National Environmental Policy Act of 1969 (42 U.S.C. 4332); 44 U.S.C. 3504 note; Sec. 109, Pub. L. 96-295, 94 Stat. 783.

§ 50.34 [Amended]

23. In § 50.34(b)(6)(i), remove the word “or” and add in its place the word “of”.

24. In § 50.63, revise paragraph (c)(1) introductory text to read as follows and remove paragraph (c)(4).

§ 50.63 Loss of all alternating current power.

* * * * *

(c) * * *

(1) Information Submittal. For each light-water-cooled nuclear power plant operating license application submitted after September 27, 2007, the applicant shall submit the information defined below in its final safety analysis report.

* * * * *

§ 50.71 [Amended]

25. In § 50.71, remove and reserve paragraph (e)(3)(ii).

Appendix E to 10 CFR Part 50 [Amended]

26. In appendix E to 10 CFR part 50, remove sections IV.D.4 and VI.4.

PART 52—LICENSES, CERTIFICATIONS, AND APPROVALS FOR NUCLEAR POWER PLANTS

27. The authority citation for part 52 continues to read as follows:

Authority: Atomic Energy Act of 1954, secs. 103, 104, 147, 149, 161, 181, 182, 183, 185, 186, 189, 223, 234 (42 U.S.C. 2133, 2134, 2167, 2169, 2201, 2231, 2232, 2233, 2235, 2236, 2239, 2273, 2282); Energy Reorganization Act of 1974, secs. 201, 202, 206, 211 (42 U.S.C. 5841, 5842, 5846, 5851); 44 U.S.C. 3504 note.

28. In § 52.98, revise paragraph (b) and paragraph (d) introductory text to read as follows:

§ 52.98 Finality of combined licenses; information requests.

* * * * *

(b) If the combined license does not reference a design certification or a reactor manufactured under a manufacturing license issued under subpart F of this part, then a licensee may make changes in the facility as described in the final safety analysis report (as updated), make changes in the procedures as described in the final safety analysis report (as updated), and conduct tests or experiments not described in the final safety analysis report (as updated) under the applicable change processes in 10 CFR part 50 (e.g., § 50.54, § 50.59, or § 50.90 of this chapter).

* * * * *

(d) If the combined license references a reactor manufactured under a manufacturing license issued under subpart F of this part, then—

* * * * *

29. In appendix E to 10 CFR part 52, revise section V.B.1 to read as follows:

Appendix E to Part 52—Design Certification Rule for the ESBWR Design

* * * * *

V. * * *

B. * * *

1. Paragraph (f)(2)(iv) of 10 CFR 50.34—Separate Plant Safety Parameter Display Console.

* * * * *

30. Amend appendix F to 10 CFR part 52 by:

a. In section III.D removing the words “the NUREG,”;

b. Revising section V.A; and

c. Removing and reserving section V.B.

The revision reads as follows:

Appendix F to Part 52—Design Certification Rule for the APR1400 Design

* * * * *

V. * * *

A. The regulations that apply to the APR1400 design are in 10 CFR parts 20, 50, 52, 73, and 100, codified as of September 19, 2019, that are applicable and technically relevant, as described in the final safety evaluation report.

B. [Reserved]

* * * * *

PART 55—OPERATORS' LICENSES

31. The authority citation for part 55 continues to read as follows:

Authority: Atomic Energy Act of 1954, secs. 107, 161, 181, 182, 183, 186, 187, 223, 234 (42 U.S.C. 2137, 2201, 2231, 2232, 2233, 2236, 2237, 2273, 2282); Energy Reorganization Act of 1974, secs. 201, 202 (42 U.S.C. 5841, 5842); Nuclear Waste Policy Act of 1982, sec. 306 (42 U.S.C. 10226); 44 U.S.C. 3504 note.

§ 55.31 [Amended]

32. In § 55.31(b), remove the word “futher” and add in its place the word “further”.

PART 70—DOMESTIC LICENSING OF SPECIAL NUCLEAR MATERIAL

33. The authority citation for part 70 continues to read as follows:

Authority: Atomic Energy Act of 1954, secs. 51, 53, 57(d), 108, 122, 161, 182, 183, 184, 186, 187, 193, 223, 234, 274, 1701 (42 U.S.C. 2071, 2073, 2077(d), 2138, 2152, 2201, 2232, 2233, 2234, 2236, 2237, 2243, 2273, 2282, 2021, 2297f); Energy Reorganization Act of 1974, secs. 201, 202, 206, 211 (42 U.S.C. 5841, 5842, 5846, 5851); Nuclear Waste Policy Act of 1982, secs. 135, 141 (42 U.S.C. 10155, 10161); 44 U.S.C. 3504 note.

§ 70.22 [Amended]

34. In § 70.22(g)(3), remove the word “discription” and add in its place the word “description”.

§ 70.32 [Amended]

35. In § 70.32, amend paragraph (a)(9)(i)(B) by removing “11 U.S.C. 101(14)” and adding in its place “11 U.S.C. 101(15)”, and amend paragraph (a)(9)(i)(C) by removing “11 U.S.C. 101(a)” and adding in its place “11 U.S.C. 101(2)”.

PART 72—LICENSING REQUIREMENTS FOR THE INDEPENDENT STORAGE OF SPENT NUCLEAR FUEL, HIGH-LEVEL RADIOACTIVE WASTE, AND REACTOR-RELATED GREATER THAN CLASS C WASTE

36. The authority citation for part 72 continues to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

§ 72.218 [Amended]

37. In § 72.218(a), remove the word “thev” and add in its place the word “the”.

PART 73—PHYSICAL PROTECTION OF PLANTS AND MATERIALS

38. The authority citation for part 73 continues to read as follows:

Authority: Atomic Energy Act of 1954, secs. 53, 147, 149, 161, 170D, 170E, 170H, 170I, 223, 229, 234, 1701 (42 U.S.C. 2073, 2167, 2169, 2201, 2210d, 2210e, 2210h, 2210i, 2273, 2278a, 2282, 2297f); Energy Reorganization Act of 1974, secs. 201, 202 (42 U.S.C. 5841, 5842); Nuclear Waste Policy Act of 1982, secs. 135, 141 (42 U.S.C. 10155, 10161); 44 U.S.C. 3504 note. Section 73.37(b)(2) also issued under Sec. 301, Public Law 96-295, 94 Stat. 789 (42 U.S.C. 5841 note).

§ 73.1 [Amended]

39. In § 73.1(b)(5), remove the phrase “total radiation dose in excess of 100 rems per hour at a distance of 3 feet” and add in its place the phrase “total external radiation level in excess of 1 gray (100 rad) per hour at a distance of 1 meter (3.3 feet)”.

§ 73.6 [Amended]

40. In § 73.6(b), remove “Rad” and add in its place “rad” and remove “Gray” and add in its place “gray”.

§ 73.35 [Amended]

41. In § 73.35, remove the phrase “total external radiation dose rate” and add in its place the phrase “total external radiation level”.

§ 73.37 [Amended]

42. In § 73.37(a)(1), remove the phrase “total external radiation dose rate in excess of 1 Gy (100 rad) per hour at a distance of 1 meter (3.3 feet)” and add in its place the phrase “total external radiation level in excess of 1 gray (100 rad) per hour at a distance of 1 meter (3.3 feet)”.

§ 73.50 [Amended]

43. In § 73.50 introductory text, remove the phrase “total external radiation dose rates in excess of 100 rems per hour at a distance of 3 feet” and add in its place the phrase “a total external radiation level in excess of 1 gray (100 rad) per hour at a distance of 1 meter (3.3 feet)”.

§ 73.57 [Amended]

44. In § 73.57(d), remove “T-8B20” and add in its place “T-07D04M”.

§ 73.60 [Amended]

45. In § 73.60 introductory text, remove the phrase “a total external radiation dose rate in excess of 100 rems per hour at a distance of 3 feet” and add in its place the phrase “a total external radiation level in excess of 1 gray (100 rad) per hour at a distance of 1 meter (3.3 feet)”.

§ 73.67 [Amended]

46. In § 73.67(b)(1)(i), remove the phrase “a total external radiation dose rate in excess of 100 rems per hour at a distance of 3 feet” and add in its place the phrase “a total external radiation level in excess of 1 gray (100 rad) per hour at a distance of 1 meter (3.3 feet)”.

PART 95—FACILITY SECURITY CLEARANCE AND SAFEGUARDING OF NATIONAL SECURITY INFORMATION AND RESTRICTED DATE

47. The authority citation for part 95 continues to read as follows:

Authority: Atomic Energy Act of 1954, secs. 145, 161, 223, 234 (42 U.S.C. 2165, 2201, 2273, 2282); Energy Reorganization Act of 1974, sec. 201 (42 U.S.C. 5841); 44 U.S.C. 3504 note; E.O. 10865, as amended, 25 FR 1583, 3 CFR, 1959-1963 Comp., p. 398; E.O. 12829, 58 FR 3479, 3 CFR, 1993 Comp., p. 570; E.O. 12968, 60 FR 40245, 3 CFR, 1995 Comp., p. 391; E.O. 13526, 75 FR 707, 3 CFR, 2009 Comp., p. 298.

§ 95.5 [Amended]

48. In § 95.5, in the definitions for NRC “L” access authorization and NRC “Q” access authorization, remove “Office of Personnel Management” and add in its place “Defense Counterintelligence and Security Agency”.

PART 110—EXPORT AND IMPORT OF NUCLEAR EQUIPMENT AND MATERIAL

49. The authority citation for part 110 continues to read as follows:

Authority: Atomic Energy Act of 1954, secs. 11, 51, 53, 54, 57, 62, 63, 64, 65, 81, 82, 103, 104, 109, 111, 121, 122, 123, 124, 126, 127, 128, 129, 133, 134, 161, 170H, 181, 182, 183, 184, 186, 187, 189, 223, 234 (42 U.S.C. 2014, 2071, 2073, 2074, 2077, 2092, 2093, 2094, 2095, 2111, 2112, 2133, 2134, 2139, 2141, 2151, 2152, 2153, 2154, 2155, 2156, 2157, 2158, 2160c, 2160d, 2201, 2210h, 2231, 2232, 2233, 2234, 2236, 2237, 2239, 2273, 2282); Energy Reorganization Act of 1974, sec. 201 (42 U.S.C. 5841); Administrative Procedure Act (5 U.S.C. 552, 553); 42 U.S.C. 2139a, 2155a; 44 U.S.C. 3504 note. Section 110.1(b) also issued under 22 U.S.C. 2403; 22 U.S.C. 2778a; 50 App. U.S.C. 2401 et seq.

§ 110.2 [Amended]

50. In § 110.2, in the definition for Special nuclear material, add a comma after “uranium-233”.

§ 110.8 [Amended]

51. In § 110.8(h), remove “MWe” and add in its place “MW”.

§ 110.20 [Amended]

52. In § 110.20(e), remove “U.S. Customs Service's” and add in its place “U.S. Customs and Border Protection's”.

§ 110.50 [Amended]

53. In § 110.50(c)(3) introductory text, remove the word “stationary” and add in its place the word “stationery”.

Dated: July 30, 2021.
Angella M. Love Blair,
Acting Chief, Regulatory Analysis and Rulemaking Support Branch, Division of Rulemaking, Environmental, and Financial Support, Office of Nuclear Material Safety and Safeguards.

[FR Doc. 2021-16662 Filed 8-6-21; 8:45 am]

BILLING CODE 7590-01-P